DEPARTMENT OF TRANSPORTATION

Surface Transportation Board

[STB Finance Docket No. 32720 (Sub-No. 1)]

Union Pacific Railroad Company—Trackage Rights Exemption—BNSF Railway Company

BNSF Railway Company (BNSF) has agreed to modify an existing overhead trackage rights agreement, under which Union Pacific Railroad Company (UP) operates over BNSF trackage between milepost 5.1 at Ft. Worth, TX, and milepost 417.5 at Dalhart, TX.

UP indicates that the transaction was to be consummated on March 29, 2006, the effective date of the exemption (7 days after the exemption was filed).

The purpose of the amended trackage rights agreement, under which UP will retain its existing rights, is to grant UP the right to set out and pick up traffic at milepost 114.1 at Wichita Falls, TX.

As a condition to this exemption, any employees affected by the amended trackage rights will be protected by the conditions imposed in Norfolk and Western Ry. Co—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 32720 (Sub-No. 1), must be filed with the Surface Transportation Board, 1925 K Street, NW., Washington, DC 20423-0001. In addition, a copy of each pleading must be served on Gabriel S. Meyer, 1400 Douglas Street, STOP 1580, Omaha, NE 65179.

Board decisions and notices are available on our Web site at www.stb.dot/gov.

Decided: April 4, 2006.
By the Board, David M. Konschnik, Director, Office of Proceedings.
Vernon A. Williams,
Secretary.

[FR Doc. E6-5335 Filed 4-10-06; 8:45 am]

BILLING CODE 4915-01-P